DEPARTMENT OF THE INTERIOR

Bureau of Land Management

[BLM_OR_FRN_MO4500177026]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM's) Southeast Oregon Resource Advisory Council (RAC) will meet as follows.

DATES: The Southeast Oregon RAC will meet on March 12-13, 2024, and June 11-12, 2024. The March 12 meeting will be from 9 a.m. to 4:30 p.m. Pacific Time (PT) with a 30-minute public comment period offered at 3:45 p.m. PT, and the March 13 meeting will be from 9 a.m. to 12 p.m. PT, with a 30-minute public comment period offered at 10:45 a.m. PT. The June 11 meeting will be from 9 a.m. to 4:30 p.m. PT with a 30-minute public comment period offered at 3:45 p.m. PT, and the RAC will attend a field tour on June 12 from 9 a.m. to 12 p.m. PT to the National Historic Oregon Trail Interpretive Center.

ADDRESSES: The March meeting will be held in-person at the BLM Burns District Office, 28910 Highway 20 West, Hines, Oregon, 97738. The June 11 meeting will be held at the Four Rivers Cultural Center, 676 SW 5th Ave, Ontario, Oregon, 97914. The June 12 field tour will also commence and conclude at the Cultural Center. A virtual option will be offered for each meeting. Instructions for participating virtually, final agendas, and additional meeting details will be posted at least 10 days in advance of the meeting on the RAC's web page: https://www.blm.gov/get-involved/resource-advisory-council/near-you/oregon-washington/southeast-oregon-rac. Previous meeting minutes, membership information, and upcoming agendas are also available at this website.

Public comments can be mailed to the BLM Lakeview District Office, Attn: Lisa McNee, 1301 South G Street, Lakeview, OR 97630 or sent via email to lmcnee@blm.gov. All comments received will be provided to the Southeast Oregon RAC members.

FOR FURTHER INFORMATION CONTACT: Lisa McNee, Public Affairs Officer, 1301 South G Street, Lakeview, OR 97630; (541) 219-9180; lmcnee@blm.gov. Individuals in the United States who are deaf, blind, hard of hearing, or have a speech disability may dial 711 (TTY, TDD, or TeleBraille) to access telecommunications relay services. Individuals outside the United States should use the relay services offered within their countries to make international calls to the point-of-contact in the United States.

SUPPLEMENTARY INFORMATION: The Southeast Oregon RAC is chartered, and the 15 members are appointed by the Secretary of the Interior. Their diverse perspectives represent commodity, non-commodity, and local interests. The RAC serves in an advisory capacity to BLM and U.S. Forest Service officials concerning planning and management of public lands and national forest resources located, in whole or part, within the boundaries of the BLM's Vale, Burns, and Lakeview Districts and the Fremont-Winema and Malheur National Forests. All meetings are open to the public in their entirety. Information to be distributed to the RAC is requested before the start of each meeting.

Agenda topics for the March 12 and 13 meetings will include District updates; updates on the Lakeview Resource Management Plan (RMP) Amendment and the aquatic and riparian restoration programmatic environmental assessment; and presentations on wild horse and burro management, mining and minerals, grazing, fire, and recreation.

Agenda topics for the June 11 meeting will include a presentation on Habitat Connectivity, fire, and grazing, and updates on the Lakeview RMP Amendment and the Programmatic Solar Environmental Impact Statement. The RAC will participate in a field tour on June 12 to the National Historic Oregon Trail Interpretive Center.

Members of the public are welcome on the field tour but must provide their own transportation and meals. Individuals who plan to attend must RSVP to the BLM Lakeview District Office at least 2 weeks in advance of the field tour to the contact listed in the FOR FURTHER INFORMATION CONTACT section of this notice.

Meeting Accessibility/Special Accommodations: For sign language interpreter services, assistive listening devices, or other reasonable accommodations, please contact Lisa McNee, Lakeview District BLM (see FOR FURTHER INFORMATION CONTACT) at least 7 business days before the meeting to ensure there is sufficient time to process the request. The Department of the Interior manages accommodation requests on a case-by-case basis.

Public comments can be submitted as described under the ADDRESSES section of this notice. Before including your address, phone number, email address, or other personal identifying information in your comments, please be aware that your entire comment—including your personal identifying information—may be made publicly available at any time. While you can ask us in your comment to withhold your personal identifying information from public review, we cannot guarantee we will be able to do so.

(Authority: 5 U.S.C. ch. 10)

Jeffrey Rose,
Burns District Manager.

[FR Doc. 2024-01273 Filed 1-23-24; 8:45 am]

BILLING CODE 4331-24-P